NUCLEAR REGULATORY COMMISSION

Request for a License To Import Radioactive Waste

Pursuant to 10 CFR 110.70 (c) “Public Notice of Receipt of an Application,” please take notice that the Nuclear Regulatory Commission (NRC) has received the following request for an import license. Copies of the request are available electronically through ADAMS and can be accessed through the Public Electronic Reading Room (PERR) link http://www.nrc.gov/reading-rm.html at the NRC Homepage.

Requests for a hearing or intervention must be filed in accordance with the procedures set forth in 10 CFR Part 110, Subpart H and be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least five days prior to the filing deadline, the petitioner/requestor should contact the Office of the Secretary by e-mail at HEARING.DOCKET@NRC.GOV, or by calling (301) 415-1677, to request a digital ID certificate and allow for the creation of an electronic docket.

In addition to a request for hearing or petition for leave to intervene, written comments, in accordance with 10 CFR 110.81, should be submitted within thirty days after publication of this notice in the Federal Register to the Office of the Secretary, U.S. Nuclear Regulatory Commission, Washington, DC 20555, Attention: Rulemaking and Adjudications.

The information concerning this import license application follows.

NRC Import License Application

Description of Material
Name of applicant, date of application, date received, application No., docket No. | Material type | End use | Country of origin
UniTech Services Group, Inc., August 19, 2008, August 21, 2008, IW026, 11005790 | Class A radioactive waste consisting of Polyvinyl alcohol (PVA) based protective clothing and related products contaminated with activation and mixed fission products (predominantly Co-60, Mn-54, Fe-55, Ni-63, and Cs-137). The physical and chemical form of most contaminants is solid particulate metal oxides | Dissolving by way of laundering in accordance with applicant's domestic license | Laguna Verde Nuclear Power Plant, Mexico.

Dated this 4th day of September 2008 at Rockville, Maryland.
For the Nuclear Regulatory Commission.
Scott W. Moore,
Deputy Director, Office of International Programs.

[FR Doc. E8-21571 Filed 9-15-08; 8:45 am]

BILLING CODE 7590-01-P